DEPARTMENT OF HOUSING AND URBAN DEVELOPMENT

[Docket No. FR-4962-C-02]

Notice of Funding Availability for Fiscal Year (FY) 2004 HOPE VI Main Street Grants; Correction

AGENCY: Office of the Assistant Secretary for Public and Indian Housing, HUD.

ACTION: Notice of funding availability; Correction.

SUMMARY: On July 21, 2005, HUD published the Notice of Funding Availability (NOFA) for Fiscal Year (FY) 2004 HOPE VI Main Street Grants. This notice announces several corrections to the NOFA.

DATES: The application submission date is September 2, 2005.

FOR FURTHER INFORMATION CONTACT: Lar Gnessin, Office of Public Housing Investments, Office of Public and Indian Housing, Department of Housing and Urban Development, 451 Seventh Street, SW., Washington, DC 20410-5000; telephone (202) 708-0614 extension 2676 (this is not a toll-free number). Hearing-or speech-impaired individuals may access this number via TTY by calling the toll-free Federal Information Relay Service at (800) 877-8339.

SUPPLEMENTARY INFORMATION: On July 21, 2005 (70 FR 42150), HUD published the Notice of Funding Availability (NOFA) for Fiscal Year (FY) 2004 HOPE VI Main Street Grants Notice announcing the availability of approximately $5 million in funds to produce affordable housing in HUD-defined Main Street rejuvenations.

This Notice announces technical corrections to the NOFA. Specifically, HUD has determined that, because of the short time frame involved and the need to obligate this assistance before the end of the fiscal year, electronic applications will not be accepted. Applicants may only submit paper applications. Applications must be received on or before 5:15 p.m. on September 2, 2005 at the address stated in Section IV.F.1. of this NOFA. Regardless of the date the application was posted to the USPS or other mail carrier, applications received after 5:15 p.m. on September 2, 2005 at the address in IV.F.1. will be considered late and will not be eligible for funding. There is no grace period for mail delivery time.

Summary of Technical Corrections

On page 42150, in the Overview Information Section, paragraph E's reference to the Catalog of Federal Domestic Assistance (CFDA) Number is changed from 14-886 to 14.886. This change is necessary to correct a typographical error.

On page 42150, in the Overview Information Section, paragraph F is changed to direct applicants to refer to Section IV (“Application and Submission Information”) of the HOPE VI Main Street NOFA for application requirements.

On page 42150, in the Overview Information Section, paragraph G is changed to reflect HUD's decision that only paper applications will be accepted. HUD understands that during the SuperNOFA application process, some eligible applicants may have had difficulty submitting their applications electronically. Additionally, the HOPE VI Main Street Grants program requires that available funds be obligated on or before September 30, 2005. This short time frame may not provide an acceptable period of time to resolve any problems that may arise with applications submitted electronically. Furthermore, the HOPE VI Main Street program's eligible applicants include Local Governments with populations of 50,000 or less; these eligible applicants, as a whole, may not have sufficient access to the Internet in the geographic locations in which the applicants are located. Therefore, in order to ensure that (1) applicants have no problems submitting applications; (2) applicants have an appropriate amount of time to submit applications; and (3) HUD has adequate time to review program applications and award funds, HUD has determined that only paper submissions may be submitted for the HOPE VI Main Street program.

On pages 42157 through 42164, Section IV, HUD, as discussed above, is substantially revising Section IV (“Application and Submission Information”) to reflect HUD's decision that only paper applications be accepted.

On page 42169, in Section VII (“Agency Contacts”) in the first column, a technical assistance contact person has been changed.

On pages 42170 through 42232, forms are appended to the HOPE VI Main Street NOFA. When submitting paper applications, applicants may include form HUD-2993 (“Acknowledgement of Application Receipt”) as part of the application package. This form was not published with the July 21, 2005 NOFA. Thus, this form is added to the appended forms.

Accordingly, the Notice of Funding Availability for Fiscal Year (FY) 2004 HOPE VI Main Street Grants, published in the Federal Register on July 21, 2005 (70 FR 42150) is corrected as follows:

1. On page 42150, first column, in paragraph E, in the Section titled “Overview Information,” remove 14-886 and replace it with 14.886.

2. On page 42150, first column, in paragraph F, in the Section titled “Overview Information,” remove paragraph F.1. and replace it with “1. Application Submission Date. The application submission date and time are September 2, 2005 at 5:15 p.m. Eastern time. Applications will be considered late and ineligible to receive funding if not received on or before the application due date, regardless of the postmark date.”

3. On page 42150, first column, in paragraph G, in the Section titled “Overview Information,” remove paragraph G and replace it with “G. Application Submission Requirements. Applications for this NOFA will NOT be accepted electronically through www.grants.gov. Only paper applications will be accepted. See “Other Submission Requirements,” in Section IV.F. of this NOFA.”

4. On page 42157, beginning in the first column, remove Section IV (“Application and Submission Information”) in its entirety and replace it with the following:

IV. Application and Submission Information

A. Addresses to Request Application Package

This section describes how you may obtain application forms, additional information about the General Section of this NOFA, and technical assistance.

1. Copies of this published NOFA and related application forms may be downloaded from the grants.gov Web site at http://www.grants.gov/FIND, HUD's Grants Administration Web site at http://www.hud.gov/offices/adm/grants/otherhud.cfm, or HUD's HOPE VI Web site at http://www.hud.gov/offices/pih/programs/ph/hope6/grants/mainstreet/, If you do not have Internet access and need to obtain a copy of this NOFA, you can contact HUD's NOFA Information Center toll-free at (800) HUD-8929. Persons with hearing or speech impairments may call toll-free at (800) HUD-2209.

2. Application Kits. There are no application kits for HUD programs. All the information you need to apply will be in the NOFA and available at the above locations.

3. The published Federal Register document is the official document that HUD uses to evaluate applications. Therefore, if there is a discrepancy between any materials published by HUD in its Federal Register publications and other information provided in paper copy, electronic copy, or at www.grants.gov, the Federal Register publication prevails. Please be sure to review the application submission against the requirements in the Federal Register file of this NOFA.

B. Content and Form of Application Submission

1. Number of Applications Permitted. Each applicant may submit only one application.

2. Joint Applications. Joint applications are not permitted. However, the applicant may enter into subgrant agreements with procured developers, other partners, nonprofit organizations, state governments, or other local governments to perform the activities proposed under the application.

3. General Format and Length of Application.

a. General

(1) Signatures. Where applicant execution is required, the head of the Local Government, or his or her designee, must sign each form or certification that is required as part of the application, whether part of an attachment or a standard certification.

(2) The application should be packaged in a three-ring binder.

b. Page Layout

(1) Narrative pages must be double-spaced. Single-spaced pages will be counted as two pages.

(2) Narrative information furnished in columns must be double spaced. Pages that include single spaced columns will be counted as two pages.

(3) Use 8½ x 11-inch paper, one side only. Only the Main Street area map may be submitted on an 11 by 17-inch sheet of paper. Larger pages will be counted as two pages.

(4) All four page margins should be a minimum of ½ inch. If any margin is smaller than ½ inch the page will be counted as two pages.

(5) The font must be Times New Roman 12-point.

(6) If a narrative section is not applicable, omit it; do not insert a page marked n/a.

(7) Mark each application Section with the appropriate tab listed in section IV.B.4.a. No material on the tab will be considered for review purposes, although pictures are allowed.

(8) No more than one page of text may be placed on one sheet of paper; i.e., you may not shrink pages to get two or more pages of text on one piece of paper. Shrunken pages will be counted as multiple pages.

c. Page Count

(1) The maximum total length of all narrative sections, including the Executive Summary and the Rating Factor responses, is 15 pages.

(2) The maximum length of attachments is as follows:

(a) For the Program Schedule, a maximum of one page;

(b) For the Map of the Main Street Area, one page. The map must be scalable.

(c) Main Street Rejuvenation Master Plan (Master Plan), a maximum of 20 pages. In order to meet the size limitation, the applicant may submit only the portions of the Master Plan that pertain to subjects that are listed in Section III of this NOFA, under “Thresholds” and “Program Requirements,” and Section V of this NOFA. If those portions of the Master Plan exceed 20 pages, the applicant may summarize information that is included in those portions of the Master Plan. By applying for this NOFA, the applicant is certifying that submitted summaries of the Master Plan accurately represent the original Master Plan;

(3) HUD forms will not be counted toward the attachment page total;

(4) Text submitted at the request of HUD to correct technical deficiencies will not be counted in the page limit.

(5) Any pages in excess of the above limitations will not be reviewed. Although submitting pages in excess of the page limit will not disqualify an application, HUD will not consider the information on any excess pages, which may result in a lower score or failure to meet a threshold.

4. Application Content. The following is a list of narrative exhibits and forms that are required as part of the application. Narrative exhibits and forms should be included in the application in the order listed below. Non-submission of these items may lower your rating score or make you ineligible for award under this NOFA. Review the threshold requirements in Section III.C. and mandatory documentation requirements in Section IV.B. of this NOFA to ascertain the affects of non-submission. HUD forms required by this NOFA can be obtained on the Internet at http://www.grants.gov, http://www.hud.gov/offices/adm/grants/otherhud.cfm, or http://www.hud.gov/offices/pih/programs/ph/hope6/grants/mainstreet/.

a. List of Mandatory Application Sections and Related Documents

(1) Summary Information:

(a) Section A: Application for Federal Assistance, form SF-424;

(b) Section B: Application Table of Contents;

(c) Section C: Executive Summary;

(2) Rating Factor Responses:

(a) Section D: Rating Factor 1, Capacity, Narrative Response;

(b) Section E: Rating Factor 2, Need for Affordable Housing, Narrative Response;

(c) Section F: Rating Factor 3, Appropriateness of Main Street Master Plan;

(d) Section G: Rating Factor 4, Appropriateness of the Main Street Affordable Housing Project;

(e) Section H: Rating Factor 5, Program Administration and Fiscal Management;

(f) Section I: Rating Factor 6, Incentive Criteria on Regulatory Barrier Removal; and

(g) Section J: Rating Factor 7, RC/EZ/EC-IIs.

(3) Attachments:

(a) Section K: HOPE VI Main Street Application Data Sheet, form HUD-52861;

(b) Section L: Program Schedule;

(c) Section M: Map of Main Street Area;

(d) Section N: Main Street Rejuvenation Master Plan;

(e) Section O: HOPE VI Budget, form HUD-52825A;

(f) Section P: 5-Year Cash Flow Proforma;

(g) Section Q: America's Affordable Communities Initiative, form HUD-27300, and related documentation;

(h) Section R: Logic Model, form HUD-96010;

(i) Section S: Race and Ethnic Data Reporting, form HUD-27061;

(j) Section T: Applicant/Recipient Disclosure/Update Report, form HUD-2880, if applicable;

(k) Section U: Certification of Consistency with the RC/EZ/EC-IIs Strategic Plan, form HUD-2990, if applicable; and

(l) Section V: Disclosure of Lobbying Activities, Standard Form LLL, if applicable.

5. Documentation Information.

a. Executive Summary.

(1) Provide an Executive Summary, not to exceed two pages. Describe your affordable housing plan. State whether you have procured a developer or whether you will act as your own developer. Briefly describe:

(a) The type of housing, e.g., walk-up above retail space, detached house, etc.;

(b) The number of units and buildings;

(c) The specific plans for the Main Street Area that surrounds the Main Street Affordable Housing Project. Include income mix, basic features (such as restoration of streets), and a general description of mixed-use and non-housing Main Street rejuvenation components.

(d) The number of homeownership units in your proposal, if any;

(e) The amount of HOPE VI funds you are requesting. See Section IV.E. of this NOFA for funding limits; and

(f) A list of major non-HOPE VI funding sources for the Main Street Affordable Housing Project, if any.

b. HOPE VI Main Street Application Data Sheet, form HUD-52861.

(1) This form consists of several Excel worksheets. Instructions for filling in the data worksheets are located on the left-hand worksheet, with the tab name, “Instructions.” The worksheets should be filled out from the left-most tab toward the right. In this way, the information that the applicant provides will automatically be inserted to the right into other worksheets as needed.

(2) List of Match and Leverage Resources. To meet the leverage resources threshold stated in Section III.C.1 of this NOFA, the applicant must provide a leverage amount equal to or greater than the applicant's requested grant amount. Allowable resources may be cash contributions or contributions of in-kind services. For each of the applicant's leverage resources, the applicant's list of leverage resources must include:

(a) The name of the entity providing the resource;

(b) The name of a contact for the entity providing the resource that is familiar with the contribution toward this application;

(c) The telephone number of a contact for the resource who is familiar with the contribution toward this application;

(d) The leverage amount;

(e) Whether the leverage amount is cash or in-kind services; and

(f) The period in which the leverage resource was expended or will be received, e.g., expended during 2003, or, for a future leverage resource, the period in which it will be furnished, e.g., over the next two years.

c. Program Schedule. The application must include a program schedule for the applicant's Project.

(1) The schedule must include, at a minimum:

(a) Grant Agreement Execution Date. Assume that the Grant Agreement Execution Date will be within 90 days after the grant award notification date;

(b) Date of closing of financing of the first phase, in months after the grant award date;

(c) Date of the start of construction of the first housing unit, in months after the grant award date; and

(d) Date of the completion of construction of the last housing unit, in months after the grant award date.

(2) The Program Schedule must reflect the Reasonable Time-Frame and Development Proposal time requirements stated in Section VI.B.1. of this NOFA. The Program Schedule must also state that grant activities will be completed within the 30-month term of the grant.

d. Map of Main Street Area. The drawing must:

(1) Show the boundaries of a Main Street Area. The boundaries may include streets, highways, railroad tracks, etc., and natural boundaries such as streams, hills, and ravines, etc. and

(2) Denote each housing site that is included in the applicant's Main Street Affordable Housing Project.

e. Main Street Rejuvenation Master Plan. The applicant's Main Street Rejuvenation Master Plan must address, at a minimum, the eight subjects listed in “Main Street Rejuvenation Master Plan,” in Section I.D.13. of this NOFA. The Master Plan must be as it existed on or before the application submission date of this NOFA. It is not necessary to include a market analysis for affordable housing that is needed in the Main Street Area or applications to the Historic Registry or list of Historic Districts. The applicant may submit only the portions of the Master Plan that pertain to subjects that are listed in Section III of this NOFA, under “Thresholds,” “Program Requirements,” and Section V of this NOFA. If those portions of the Master Plan exceed 20 pages, the applicant may summarize information that is included in those portions of the Master Plan. By applying for this NOFA, the applicant is certifying that submitted summaries of the Master Plan accurately represent the original Master Plan. See Section IV.B.6. of this NOFA for certifications that the applicant is making when the applicant applies for funds from this NOFA.

f. Cash Flow Proforma. The applicant must include a five-year estimate of project income, expenses, and cash flow (“proforma”) that shows that the project will be financially viable over the long term. In the proforma, the applicant should assume that the initial occupancy period is a minimum of two years. Note that initial funding of reserves with grant funds is NOT an allowable use of funds from this NOFA. Reserves may be funded through leverage resources. Viability must be shown for the entire project, i.e., all buildings that include affordable housing units that are partially or wholly funded with HOPE VI funds. The applicant may include one proforma for the entire project, or several proformas, broken out for the various portions of the project, as fits the circumstances best. For example, separate proformas may include viability documentation for:

(1) All buildings together;

(2) Separately for each building in the project; or

(3) Separately for each owner entity in the project.

g. HOPE VI Budget. Enter the amount you are requesting through this NOFA. In “Part I: Summary,” it is not necessary to fill in the columns entitled, “Previous Authorized Amounts of Funds in LOCCS,” “Changes Requested in this Revision,” and “HUD-Approved Total Authorized Amount of Funds in LOCCS.” In “Part II: Supporting Pages,” it is necessary only to fill in columns 2 and 3.

h. Logic Model. It is not necessary to fill in columns 6, 7, 8 and 9. This information will be collected at the end of the grant term. See Section VI.C.3. of this NOFA.

i. Appropriateness of Application. Section 24(e)(1) of the 1937 Act requires that the application demonstrate the appropriateness of the proposal in the context of the local housing market relative to other alternatives. An example of an alternative proposal would be proposing a range of resident incomes, housing types (rental, homeownership, market-rate, townhouse, detached house, etc.), or costs which cannot be supported by the existing neighborhood demographics. Briefly, contrast your proposal and an alternative, and include the discussion in the executive summary.

6. Certifications. By signing the SF-424, the applicant certifies to the following:

a. The Main Street Rejuvenation Master Plan that is included as part of this application existed for three years prior to the application submission date, and is mentioned in the applicant's Consolidated Plan, if one exists;

b. Prior to the publication date of this NOFA, the Main Street Affordable Housing Project was, and continues to be, included in the Main Street Rejuvenation Master Plan;

c. Submitted summaries of the Master Plan accurately represent the original Master Plan;

d. The applicant or its developer entity recognized by the applicant has site control of all properties where affordable housing will be developed;

e. All project sites have zoning that allows for residential development;

f. All Match resources included in the application are “firmly committed.” See the definition of “firmly committed” in Section I.D. of this NOFA;

g. All leverage resources included in the application are “firmly committed.” See the definition of “firmly committed” in Section I.D. of this NOFA;

h. Historic preservation requirements in Section 106 of the National Historic Preservation Act of 1966 (NHPA) will be fulfilled, where applicable.

i. Environmental requirements stated in the NOFA will be fulfilled;

j. Building standards stated in the NOFA will be fulfilled;

k. Relocation requirements under the Uniform Relocation Assistance and Real Property Acquisition Policies Act of 1970 (URA) will be fulfilled;

l. Fair Housing requirements will be followed and fulfilled; and

m. The “Certification of Consistency with RC/EZ/EC Strategic Plan” (form HUD-2990), if included in the application, applies.

7. Rating Factor Format. The narrative portion of the application is the executive summary and the applicant's response to the rating factors. To ensure proper credit for information applicable to each rating factor, the applicant should include application Section references, as listed in Section IV.B.4.a. of this NOFA, to supporting documentation and language, as appropriate for rating factor responses. The applicant's rating factor responses should be as descriptive as possible, ensuring that every requested item is addressed. The applicant should make sure to include all information requested in the instructions of this NOFA. Although information from all parts of the application will be taken into account in rating the various factors, if supporting information cannot be found by the reviewer, it cannot be used to support a factor's rating.

8. Rating Factor Documentation

a. References to the Main Street Rejuvenation Master Plan.

(1) The purpose of referencing the Main Street Rejuvenation Master Plan is to decrease the amount of rating factor narrative that the applicant finds necessary to achieve its maximum rating. It is NOT necessary to repeat in the rating factor narratives the information that the applicant included in its Master Plan.

(2) Each reference to the Master Plan should be specific, including the page number of the Master Plan where the information can be found and a reference to identify its location on the page. More than one specific reference to the Master Plan may be included for any one subject or rating factor narrative.

b. Team Experience and Key Personnel Knowledge. Documentation that demonstrates knowledge and experience may include, but is not limited to:

(1) A list and short description of affordable housing projects that the members of the applicant's team have completed;

(2) A list and short description of contracts or grants completed by the members of the applicant's team for similar housing development or services;

(3) Third-party evaluation reports;

(4) Résumés of key personnel; and

(5) Other documentation showing knowledge and experience of affordable housing development or construction.

c. Need for Affordable Housing. Documentation of need for affordable housing is based on a comparison of HUD's Fair Market Rent (FMR) for the applicant's Primary Metropolitan Statistical Area/Metropolitan Statistical Area (“PMSA/MSA”) or nonmetropolitan county/parish and the maximum amount of rent that a low-income family living in that PMSA/MSA or nonmetropolitan county/parish can afford to pay.

(1) PMSA/MSAs and nonmetropolitan counties are as listed in HUD's document titled “FY 2004 State List of Counties (and New England Towns) Identified by Metropolitan and Nonmetropolitan Status” at http://www.huduser.org/datasets/il/IL04/Definitions04.doc.

(2) The FMRs are listed at http://www.huduser.org/intercept.asp?loc=/Datasets/FMR/FMR2005F/Final_FY2005_SCHEDULEB1.pdf

(3) The maximum, affordable low-income rent is based on HUD's Income Limits, as listed at http://www.huduser.org/datasets/il/IL04/Section8_IncomeLimits_2004.doc for low-income families. The maximum, affordable low-income rent is equal to the Median Family Income for low-income families, divided by 12, divided further by 0.3 (30 percent).

(4) In performing the comparison, the applicant must use the 4-person family size and the 3-bedroom unit size. The application must include the income limit and maximum, affordable low-income rent for a 4-person family, and the Fair Market Rent for a 3-bedroom unit.

d. Program Administration and Fiscal Management. Documentation that demonstrates program administration and fiscal management MUST include:

(1) A description of the procurement system structure that the applicant has in place, including internal controls;

(2) A description of the fiscal management structure that the applicant has in place, including fiscal controls and internal controls;

(3) A summary of the results of the last available annual external, independent audit, including findings, if any;

(4) A list of any findings issued or material weaknesses found by HUD or other federal or state agencies. A description of how the applicant addressed the findings and/or weaknesses. If no findings or material weaknesses were exposed or existed on or before the publication date of this NOFA, include a statement to that effect in the narrative; and

(5) A description of the applicant's management control structure, including management roles and responsibilities and evidence that the applicant's management is results-oriented, e.g., existing production, rental, and maintenance goals.

e. Incentive Criteria on Regulatory Barrier Removal.

(1) The applicant must include the completed form HUD-27300 in the application, along with background documentation where required by the form.

f. RC/EZ/EC-IIs.

(1) To receive the two bonus points for performing the NOFA activities in a RC/EZ/EC-II area, the applicant must include the “Certification of Consistency with RC/EZ/EC Strategic Plan” (form HUD-2990) in the application, signed by the authorized official of the RC/EZ/EC.

C. Submission Dates and Times

1. Application submission date and time. The application submission date is September 2, 2005 at 5:15 p.m. See Section IV.F. of this NOFA for the submission address.

2. Acknowledgement of Application Receipt. If you wish to receive written acknowledgement of HUD's receipt of the application, the Acknowledgment of Application Receipt, form HUD-2993, should be included in the front of the application. After receipt, HUD will return the form to you.

D. Intergovernmental Review

1. Executive Order 12372, Intergovernmental Review of Federal Programs. Executive Order 12372 was issued to foster intergovernmental partnership and strengthen federalism by relying on state and local processes for the coordination and review of federal financial assistance and direct federal development. HUD implementing regulations are published in 24 CFR part 52. The executive order allows each state to designate an entity to perform a state review function. The official listing of State Points of Contact (SPOCs) for this review process can be found at http://www.whitehouse.gov/omb/grants/spoc.html. States not listed on the website have chosen not to participate in the intergovernmental review process and, therefore, do not have a SPOC. If the applicant's state has a SPOC, the applicant should contact it to see if it is interested in reviewing the application prior to submission to HUD. The applicant should allow ample time for this review process when developing and submitting the applications. If the applicant's state does not have a SPOC, the applicant may send applications directly to HUD.

E. Funding Restrictions

1. Grant funds shall be used only to provide assistance to carry out eligible affordable housing activities, as stated in Section I.E. of this NOFA.

2. Non-allowable Costs and Activities. Although leverage resources may be used to fund the following activities or expenses, grant funds from this NOFA CANNOT be used for:

a. Total demolition of a building (including where a building foundation is retained);

b. Sale or lease of the Main Street Affordable Housing Project site (excluding lease or transfer of title for the purposes of obtaining tax credits, provided that the recipient owner entity of the title or lease includes the applicant);

c. Funding of reserves;

d. Payment of administrative costs of the applicant;

e. Payment of legal fees;

f. Development of public housing replacement units (defined as units that replace disposed of or demolished public housing) or use as Housing Choice Vouchers;

g. Transitional security activities;

h. Main Street technical assistance consultants or contracts; and

i. Costs incurred prior to grant award, including the cost of application preparation.

3. Cost Controls.

a. The total amount of HOPE VI funds expended shall not exceed the Total Development Cost (“TDC”), as published by HUD in NOTICE PIH 2003-8 (HA), “Public Housing Development Cost Limits,” for the number of affordable housing units that will be developed through this NOFA. The TDC limits can be found at http://www.hudclips.org/sub_nonhud/cgi/nph-brs.cgi?d=PIHN&s1=2003-8&op1=AND&l=100&SECT1=TXT_HITS&SECT5=HEHB&u=./hudclips.cgi&p=1&r=2&f=G.

b. Cost Control Safe Harbors apply. Safe Harbors may be found at http://www.hud.gov/utilities/intercept.cfm?/offices/pih/programs/ph/hope6/grants/admin/safe_harbor.pdf.

4. Community and Supportive Services (“CSS”). Furnishing CSS to residents is voluntary, except for homeownership counseling when the application includes development of homeownership units. If the applicant chooses to furnish CSS, expenditures are limited to 15 percent of the grant amount.

5. Statutory time limit for award, obligation, and expenditure.

a. The estimated award date will be September 30, 2005.

b. Funds available through this NOFA must be obligated on or before September 30, 2005.

c. In accordance with 31 U.S.C. 1552 (Pub. L. 97-258, Sept. 13, 1982, 96 Stat. 935; Pub. L. 101-510, div. A, title XIV, Sec. 1405(a)(1), Nov. 5, 1990, 104 Stat. 1676.), all HOPE VI funds that were appropriated in FY 2004 must be expended by September 30, 2010. Any funds that are not expended by that date will be cancelled and recaptured by the Treasury, and thereafter will not be available for obligation or expenditure for any purpose.

6. Withdrawal of Funding. If a grantee under this NOFA does not proceed within a reasonable time frame, HUD shall withdraw any grant amounts that have not been obligated. HUD shall redistribute any withdrawn amounts to one or more other applicants eligible for assistance.

7. Transfer of Funds. HUD has the discretion to transfer funds available through this NOFA to any other HOPE VI program.

8. Limitation on Eligible Expenditures. Expenditures on services, equipment, and physical improvements must directly relate to project activities allowed under this NOFA.

9. Pre-Award Activities. Award funds may not be used to reimburse pre-award expenses.

F. Other Submission Requirements

1. Address for Submitting Applications. Send the completed application to: Ms. Dominique Blom, Acting Deputy Assistant Secretary for Public Housing Investments, Department of Housing and Urban Development, 451 Seventh Street, SW., Room 4130, Washington, DC 20410-5000.

Please make sure that you note the room number. The correct room number is very important in ensuring that your application is properly accepted and not misdirected.

2. Wrong Address. Applications mailed to the wrong location or office designated for receipt of the application, which result in the designated office not receiving your application in accordance with the requirements for timely submission, will result in your application being considered late and will not receive funding consideration. HUD will not be responsible for directing packages to the appropriate office(s).

3. Submission via Overnight Mail. Paper applications must be submitted, in their entirety, via FedEx, United Postal Service (UPS) or United States Postal Service (USPS) Express Mail. No other mail carriers or delivery services are allowed into HUD Headquarters and no applications will be accepted from other mail carriers or delivery services HUD will not accept hand delivery of applications.

4. Timely Receipt of Applications. Applications must be received on or before 5:15 p.m. on September 2, 2005 at the address stated in Section IV.F.1. of this NOFA. Regardless of the date the application was posted to the USPS or other mail carrier, applications received after 5:15 p.m. on September 2, 2005 at the address in IV.F.1. will be considered late and will not be eligible for funding. There is no grace period for mail delivery time. Note that this requirement differs from, and takes precedence over, the General Section. The applicant should post the application early enough to allow sufficient time for delivery before the submission date and time. Note that USPS Express Mail does not always deliver within the committed time. It has been HUD's experience that Express Mail delivery may take up to five days.

5. Late applications. Late applications will not receive funding consideration. Applications sent to HUD through FedEx, United Parcel Service (UPS) or the United States Postal Service (USPS) Express Mail will be considered late and ineligible to receive funding if not received on or before the application due date, regardless of the postmark date. HUD will not be responsible for directing or forwarding applications to the appropriate location. Applicants should pay close attention to these submission and timely receipt instructions as they can make a difference in whether HUD will accept your application for funding consideration.

6. Proof of Timely Submission. Proof of timely submission for all applications, regardless of delivery method, shall be the date and time recorded by HUD's Grant Administrator in his or her application receipt log.

7. No Facsimiles or Videos. HUD will not accept for review, evaluation, or funding, any entire application sent by facsimile (fax). Minor changes or corrections, or other materials received on or before the application submission date will be accepted and made part of the application. Facsimile corrections to technical deficiencies will be accepted. Also, videos submitted as part of an application will not be viewed.

8. DUNS Requirement. All applicants applying for funding, including renewal funding, must have a Dun and Bradstreet Universal Data Numbering System (DUNS) number. The DUNS number must be included in the data entry field labeled “Organizational Duns” on the form SF-424. Instructions for obtaining a DUNS number can be found at either of the following Web sites: www.hud.gov/offices/adm/grants/duns.cfm or www.grants.gov/GetStarted.

9. General Section References. The following sub-sections of Section IV of the General Section are hereby incorporated by reference:

a. Addresses to Request Application Package;

b. Application Kits;

c. Guidebook and Further Information.

d. Forms. The following HUD standard forms are not required as part of the application for this NOFA:

(1) Grant Application Detailed Budget (HUD-424-CB);

(2) Grant Application Detailed Budget Worksheet (HUD-424-CBW);

e. Certifications and Assurances.

5. On page 42169, in the first column, replace the phrase “Mr. Milan Ozdinec, Deputy Assistant Secretary for Public Housing Investments, Department of Housing and Urban Development, 451 Seventh Street, SW., Room 4130, Washington, DC, 20410-5000; telephone (202) 401-8812; fax (202) 401-2370 (these are not toll-free numbers).” with the phrase “Ms. Dominique Blom, Acting Deputy Assistant Secretary for Public Housing Investments, Department of Housing and Urban Development, 451 Seventh Street, SW., Room 4130, Washington, DC, 20410-5000; telephone (202) 401-8812; fax (202) 401-2370 (these are not toll-free numbers).”

6. Beginning on page 42170, at which forms are appended to the HOPE VI Main Street NOFA, add form HUD-2993 (“Acknowledgment of Application Receipt”).

Dated: July 26, 2005.
Paula O. Blunt,
General Deputy Assistant, Secretary for Public and Indian Housing.

BILLING CODE 4210-33-P

[FR Doc. 05-15171 Filed 7-29-05; 8:45 am]

BILLING CODE 4210-33-C